DEPARTMENT OF COMMERCE

Bureau of the Census

[Docket Number 021028259-2259-01]

Annual Retail Trade Survey

AGENCY: Bureau of the Census, Commerce.

ACTION: Notice of determination.

SUMMARY: The Bureau of the Census (Census Bureau) is conducting the Annual Retail Trade Survey. The Census Bureau has determined that it needs to collect data covering annual sales, e-commerce sales, percent of e-commerce sales to customers located outside the United States, year-end inventories, purchases, accounts receivables, and, for select industries, merchandise line sales, and percent of sales by class of customer. The Census Bureau is collecting this data because the detail provided is not available from any other source and this data provides valuable information for both the government as well as the public and industry.

FOR FURTHER INFORMATION CONTACT: Nancy Piesto, Service Sector Statistics Division, on (301) 763-2747.

SUPPLEMENTARY INFORMATION: The Annual Retail Trade Survey is a continuation of similar retail trade surveys conducted each year since 1951 (except 1954). It provides, on a comparable classification basis, annual sales, e-commerce sales, and purchases for 2002 and year-end inventories for 2001 and 2002. These data are not available publicly on a timely basis from non-governmental or other governmental sources.

The Census Bureau will require a selected sample of firms operating retail establishments in the United States to report in the 2002 Annual Retail Trade Survey. Sales size will determine the probability of a firm's selection; that is, larger firms will have a greater probability of being selected than smaller ones. We will furnish report forms to the firms covered by this survey and will require their submissions within thirty days after receipt. The sample will provide, with measurable reliability, statistics on the subjects specified above.

The Census Bureau is authorized to take surveys necessary to furnish current data on the subjects covered by the major censuses authorized by title 13, United States Code, sections 182, 224, and 225. This survey will provide continuing and timely national statistical data on retail trade for the period between economic censuses. For 2002, the economic census year, the survey will, as it has in the past, operate as a separate sample of retail companies. The data collected in this survey will be similar to that collected in the past and within the general scope and nature of those inquiries covered in the economic census. These data will provide a sound statistical basis for the formation of policy by various government agencies. These data also apply to a variety of public and business needs.

Notwithstanding any other provision of law, no person is required to respond to, nor shall a person be subject to a penalty for failure to comply with, a collection of information subject to the requirements of the Paperwork Reduction Act (PRA) unless that collection of information displays a current valid Office of Management and Budget (OMB) control number. In accordance with the PRA, 44 United States Code, chapter 35, the OMB approved the Annual Retail Trade Survey under OMB Control Number 0607-0013. We will furnish report forms to organizations included in the survey. Additional copies are available on written request to the Director, U.S. Census Bureau, Washington, DC 20233-0101.

Based upon the foregoing, I have directed that an annual survey be conducted for the purpose of collecting these data.

Dated: November 1, 2002.
Charles Louis Kincannon,
Director, Bureau of the Census.

[FR Doc. 02-28186 Filed 11-5-02; 8:45 am]

BILLING CODE 3510-07-P